DEPARTMENT OF HEALTH AND HUMAN SERVICES

Administration for Children and Families

Submission for OMB Review; Comment Request

Title: Mentoring Children of Prisoners Online Data Collection (OLDC).

OMB No.: 0970-0266.

Description: The Promoting Safe and Stable Families Amendments of 2001 (Pub. L. 107-133) amended Title IV-B of the Social Security Act (42 U.S.C. 629-629e) to provide funding for nonprofit agencies that recruit, screen, train, and support mentors for children with an incarcerated parent or parents. The Family and Youth Services Bureau (FYSB) within the Administration for Children and Families (ACF), United States Department of Health and Human Services, administers the Mentoring Children of Prisoners (MCP) program. The MCP program creates lasting, high quality, one-on-one relationships that provide young people with caring adult role models. Information from the Mentoring Children of Prisoners Online Data Collection is necessary for ACF's reporting and planning under the Government Performance and Results Act (GPRA), and to support evaluation requirements within GPRA. Information collected will be used for accountability monitoring, management improvement, and research. Data collection ensures that ACF knows if grantees of the MCP program are meeting the established targets (established based on research and benchmarks) recorded in the grant application as required by the GPRA, and that mentoring activities are faithful to characteristics established by research as essential to success. Data collected will also support grantees as they carry out ongoing responsibilities, maintain program service, and manage information for internal uses.

Respondents: Public, faith-based and community organizations receiving funding to implement the MCP program.

Annual Burden Estimates
Instrument | Number of respondents | Number of responses per respondent | Average burden hours per response | Total burden hours
MCP Online Data Collection | 238 | 4 | 12 | 11,424

Estimated Total Annual Burden Hours: 11,424.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this documentation in the Federal Register. Therefore, a comment is best assured of having its full effect if OMB receives it within 30 days of publication. Written comments and recommendations for the proposed information collection should be sent directly to the following: Office of Management and Budget, Paperwork Reduction Project, Fax: 202-395-6974, Attn: Desk Officer for the Administration for Children and Families.

Dated: June 14, 2007.
Robert Sargis,
Reports Clearance Officer.

[FR Doc. 07-3048 Filed 6-20-07; 8:45 am]

BILLING CODE 4184-01-M